DEPARTMENT OF COMMERCE

National Oceanic and Atmospheric Administration

[RTID 0648-XF109]

Takes of Marine Mammals Incidental to Specified Activities; Taking Marine Mammals Incidental to the Office of Naval Research's Arctic Research Activities in the Beaufort and Chukchi Seas (Year 8)

AGENCY: National Marine Fisheries Service (NMFS), National Oceanic and Atmospheric Administration (NOAA), Commerce.

ACTION: Notice; issuance of renewal of incidental harassment authorization.

SUMMARY: In accordance with the regulations implementing the Marine Mammal Protection Act (MMPA), as amended, notification is hereby given that NMFS has issued a renewal incidental harassment authorization (IHA) to the Office of Naval Research (ONR) to incidentally harass marine mammals incidental to Arctic Research Activities (ARA) in the Beaufort Sea and eastern Chukchi Sea. The ONR's activities are considered military readiness activities pursuant to the MMPA, as amended by the National Defense Authorization Act for Fiscal Year 2004 (2004 NDAA).

DATES: This renewal IHA is valid from September 14, 2025 through September 13, 2026.

ADDRESSES: Electronic copies of the original application, renewal request, and supporting documents (including NMFS Federal Register notices of the original proposed and final authorizations, and the previous IHA), as well as a list of the references cited in this document, may be obtained online at: https://www.fisheries.noaa.gov/permit/incidental-take-authorizations-under-marine-mammal-protection-act. In case of problems accessing these documents, please call the contact listed below.

FOR FURTHER INFORMATION CONTACT: Alyssa Clevenstine, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are promulgated or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). NMFS must also prescribe requirements pertaining to monitoring and reporting of such takings. The definition of key terms such as “take,” “harassment,” and “negligible impact” can be found in the MMPA and NMFS's implementing regulations (see 16 U.S.C 1362; 50 CFR 216.103).

NMFS' regulations implementing the MMPA at 50 CFR 216.107(e) indicate that IHAs may be renewed for additional periods of time not to exceed 1 year for each reauthorization. In the notice of proposed IHA for the initial IHA, NMFS described the circumstances under which we would consider issuing a renewal for this activity, and requested public comment on a potential renewal under those circumstances. Specifically, on a case-by-case basis, NMFS may issue a one-time 1-year renewal IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA).

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take); and

• A preliminary monitoring report showing the results of the required monitoring to date and an explanation showing that the monitoring results do not indicate impacts of a scale or nature not previously analyzed or authorized.

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: https://www.fisheries.noaa.gov/national/marine-mammal-protection/incidental-harassment-authorization-renewals.

The 2004 NDAA (Pub. L. 108-136) removed the “small numbers” and “specified geographical region” limitations indicated above and amended the definition of “harassment” as it applies to a “military readiness activity.” The activity for which incidental take of marine mammals is being requested addressed here qualifies as a military readiness activity.

History of Request

On September 14, 2024, NMFS issued an IHA to ONR to take marine mammals incidental to ARA in the Beaufort and Chukchi Seas (89 FR 77089, September 14, 2024), effective from September 14, 2024, through September 13, 2025. On July 8, 2025, NMFS received an application for the renewal of that initial IHA. As described in the application for renewal IHA, the activities for which incidental take is requested are nearly identical to those covered in the initial authorization, the only change being a reduction in proposed activities. As required, the applicant also provided a preliminary monitoring report which confirms that the applicant has implemented the required mitigation and monitoring, and which also shows that no impacts of a scale or nature not previously analyzed or authorized have occurred as a result of the activities conducted. The notice of the proposed renewal incidental harassment authorization was published on August 12, 2025 (90 FR 38764).

Description of the Specified Activities and Anticipated Impacts

The ONR ARA Global Prediction Program supports two major projects: Stratified Ocean Dynamics of the Arctic (SODA) and Arctic Mobile Observing System (AMOS). The SODA and AMOS projects have been previously discussed in association with previously issued IHAs (83 FR 40234, August 14, 2018; 84 FR 37240, July 31, 2019). However, only activities relating to the AMOS project will occur during the period covered by this action.

Project activities involve acoustic testing and a multi-frequency navigation system concept test using left-behind active acoustic sources. More specifically, these experiments involve the deployment of moored, drifting, and ice-tethered active acoustic sources from the Research Vessel (R/V) Sikuliaq. Recovery of equipment may be from R/V Sikuliaq, U.S. Coast Guard Cutter HEALY, or another vessel, and icebreaking may be required. Underwater sound from the active acoustic sources and noise from icebreaking may result in Level B harassment of marine mammals. The activities planned under the renewal IHA are nearly identical to those in the initial IHA, with the only change being a reduction in the number of research cruises from two to one.

ONR's request is for authorization of take of the Arctic stock of ringed seals (Pusa hispida hispida), and Beaufort Sea and Eastern Chukchi Sea stocks of beluga whales (Delphinapterus leucas) by Level B harassment only. The authorized take numbers are identical to those authorized in the initial IHA, and the anticipated impacts would also be identical to those analyzed in the initial IHA (89 FR 77089, September 14, 2024). Neither ONR nor NMFS expect serious injury or mortality to result from ONR's ARA. Additional information on the planned activities may be found in the notice of proposed IHA (89 FR 66068, August 14, 2024) for the initial authorization and notice of final IHA (89 FR 77089, September 14, 2024).

Detailed Description of the Activity

A detailed description of the activities for which take is authorized here may be found in the notices of the proposed and final IHAs for the initial authorization. The location, timing, and nature of the activities, including the types of equipment planned for use, are identical to those described in the previous notices. This renewal IHA is effective from September 14, 2025, through September 13, 2026.

Description of Marine Mammals

A description of the marine mammals in the area of the activities for take is authorized here, including information on abundance, status, distribution, and hearing, may be found in the notice of the proposed IHA for the initial authorization. NMFS has reviewed the monitoring data from the initial IHA, recent draft Stock Assessment Reports (SARs), information on relevant Unusual Mortality Events (UMEs), and other scientific literature, and determined that neither this nor any other new information affects which species or stocks have the potential to be affected or the pertinent information in the Description of the Marine Mammals in the Area of Specified Activities contained in the supporting documents for the initial IHA.

Potential Effects on Marine Mammals and Their Habitat

A description of the potential effects of the specified activity on marine mammals and their habitat for the activities for which an authorization of incidental take is authorized may be found in the notice of the proposed IHA for the initial authorization. NMFS has reviewed the preliminary monitoring data from the initial IHA, recent draft SARs, information on relevant UMEs, and other scientific literature, and determined that there is no new information that affects our initial analysis of impacts on marine mammals and their habitat.

On October 24, 2024 NMFS published (89 FR 84872) its final Updated Technical Guidance (https://www.fisheries.noaa.gov/national/marine-mammal-protection/marine-mammal-acoustic-technical-guidance-other-acoustic-tools) which includes updated thresholds and weighting functions to inform estimates of auditory impacts (injury, temporary threshold shift (TTS)) and is replacing the 2018 Technical Guidance referenced in the notices of the proposed and final IHAs for the initial authorization (89 FR 66068, August 14, 2024; 89 FR 77089, September 14, 2024). In consideration of the best available science, NMFS reviewed the Updated Technical Guidance and NMFS optional user spreadsheet for the purpose of understanding how Level A harassment (auditory injury) or TTS zones might change from the initial IHA. This new information does not result in a change to our assessment that, based on the nature of the activity, Level A harassment is neither anticipated nor authorized. While the Updated Technical Guidance did not result in a change to the existing determinations related to auditory injury, or to overall take numbers, it may be expected to change the proportion of Level B harassment takes that might accrue via TTS rather than behavioral disturbance. In summary, application of the Updated Technical Guidance does not change the overall take estimate found in the notices of the proposed and final IHAs for the initial authorization and the notice of the proposed renewal IHA.

Estimated Take

A detailed description of the methods and inputs used to estimate take for the specified activity are found in the Federal Register notices of the proposed and final IHAs for the initial authorization. Specifically, the source levels, days of operation, and marine mammal density and occurrence data applicable to this authorization remain unchanged from the previously issued IHA. Similarly, the stocks taken, methods of take, and types of take remain unchanged from the initial IHA, as do the number of takes, which are indicated below in table 1.

Table 1—Authorized Take by Level B Harassment
Species | Stock | Active acoustics | Icebreaking (behavioral) | Icebreaking (temporary threshold shift (TTS)) | Total authorized take | SAR abundance | Percentage of population
Beluga whale | Beaufort Sea | ᵃ 177 | ᵃ 21 | 0 | 99 | 39,258 | <1
Beluga whale | Chukchi Sea | ᵃ 177 | ᵃ 21 | 0 | 99 | 13,305 | <1
Ringed seal | Arctic | 365 | 538 | 1 | 904 | UND (171, 418) ᵇ | <1
ᵃ Acoustic and icebreaking exposures to beluga whales were not modeled at the stock level as the density value is not distinguished by stock in the Arctic for beluga whales (U.S. Department of the Navy, 2014). Estimated take of beluga whales due to active acoustics is 177 and 21 due to icebreaking activities, totaling 198 takes of beluga whales. The total take was evenly distributed among the two stocks.
ᵇ A reliable population estimate for the entire Arctic stock of ringed seals is not available and NMFS SAR lists it as Undetermined (UND). Using a sub-sample of data collected from the U.S. portion of the Bering Sea (Conn et al., 2014), an abundance estimate of 171,418 ringed seals has been calculated but this estimate does not account for availability bias due to seals in the water or in the shore-fast ice zone at the time of the survey. The actual number of ringed seals in the U.S. portion of the Bering Sea is likely much higher. Using the minimum population size (Nmin = 158,507) based upon this negatively biased population estimate, the potential biological removal (PBR) is calculated to be 4,755 seals, although this is also a negatively biased estimate.

Description of Mitigation, Monitoring and Reporting Measures

The mitigation, monitoring, and reporting measures included as requirements in this authorization are identical to those included in the Federal Register notice announcing the issuance of the initial IHA (89 FR 77089, September 20, 2024), and the discussion of the least practicable adverse impact included in that document and the notice of the proposed IHA remains accurate. The following measures are included in this renewal:

• All vessels operated by or for the Navy must have personnel assigned to stand watch at all times while underway. Watch personnel must employ visual search techniques using binoculars. While underway and while using active acoustic sources/towed in-water devices, at least one person with access to binoculars is required to be on watch at all times.

• Vessel captains and vessel personnel must remain alert at all times, proceed with extreme caution, and operate at a safe speed so that the vessel can take proper and effective action to avoid any collisions with marine mammals.

• During moored and drifting acoustic source deployment and recovery, ONR must implement a mitigation zone of 55 m around the deployed source. Deployment and recovery must cease if a marine mammal is visually detected within the mitigation zone.

• Vessels must avoid approaching marine mammals head-on and must maneuver to maintain a mitigation zone of 457 m around all observed cetaceans and 183 m around all other observed marine mammals, provided it is safe to do so.

• Activities must cease if a marine mammal species for which take was not authorized, or a species for which authorization was granted but the authorized number of takes has been met, is observed approaching or within the mitigation zone (table 2). Activities must not resume until the animal is confirmed to have left the area.

• Vessel captains must maintain at-sea communication with subsistence hunters to avoid conflict of vessel transit with hunting activity.

• While underway, all vessels must have at least one person trained through the U.S. Navy Marine Species Awareness Training Program on watch during all activities.

• Watch personnel must use standardized data collection forms, whether hard copy or electronic. Watch personnel must distinguish between sightings that occur during transit or during deployment or recovery of acoustic sources. Data must be recorded on all days of activities, even if marine mammals are not sighted.

• During deployment and recovery of acoustic sources or unmanned undersea vehicles, visual observation must begin 30 minutes prior to deployment or recovery and continue through 30 minutes following the source deployment or recovery.

• The ONR must submit its draft report(s) on all monitoring conducted under the IHA within 90 calendar days of the completion of monitoring or 60 calendar days prior to the requested issuance of any subsequent IHA for research activities at the same location, whichever comes first. A final report must be prepared and submitted within 30 calendar days following receipt of any NMFS comments on the draft report. If no comments are received from NMFS within 30 calendar days of receipt of the draft report, the report shall be considered final.

• In the event of a vessel strike of a marine mammal by any vessel involved in the activities covered by the authorization, the ONR shall report the incident to OPR, NMFS and to the Alaska regional stranding coordinator (877-925-7773) as soon as feasible. The report must include time, date, and location of the incident, species identification, vessel speed, vessel course/heading and operations, sound source status, avoidance measures taken, environmental conditions, animal's estimated size, length, and behavior, presence and behavior of other marine mammals in the area, estimated fate of the animal, and photos/video footage of the animal, if available.

Table 2—Mitigation Zones
Activity and/or effort type | Species | Mitigation zone (m)
Acoustic source deployment and recovery, stationary | Beluga whale | 55
Acoustic source deployment and recovery, stationary | Ringed seal | 55
Transit | Beluga whale | 457
Transit | Ringed seal | 183

Comments and Responses

A notice of NMFS' proposal to issue a renewal IHA to ONR was published in the Federal Register on August 12, 2025 (90 FR 38764). That notice either described, or referenced descriptions of, ONR's activity, the marine mammal species that may be affected by the activity, the anticipated effects on marine mammals and their habitat, estimated amount and manner of take, and proposed mitigation, monitoring and reporting measures. NMFS did not receive any substantive public comments.

Determinations

NMFS has concluded that there is no new information suggesting that our analysis or findings should change from those reached for the initial IHA. Based on the information and analysis contained here and in the referenced documents, NMFS has determined the following: (1) the required mitigation measures will effect the least practicable impact on marine mammal species or stocks and their habitat; (2) the authorized takes will have a negligible impact on the affected marine mammal species or stocks; (3) ONR's activities will not have an unmitigable adverse impact on taking for subsistence purposes as no relevant subsistence uses of marine mammals are implicated by this action, and; (4) appropriate monitoring and reporting requirements are included.

National Environmental Policy Act

To comply with the National Environmental Policy Act of 1969 (NEPA; 42 U.S.C. 4321 et seq.) and NOAA Administrative Order (NAO) 216-6A, NMFS must review our proposed action (i.e., the issuance of a renewal IHA) with respect to potential impacts on the human environment.

In August 2022, the U.S. Navy prepared an Overseas Environmental Assessment (OEA). Prior to issuing the initial IHA for the project, we reviewed the OEA and the public comments received, determined that a separate NEPA analysis was not necessary, and subsequently adopted the document and issued our own Finding of No Significant Impact in support of the issuance of an IHA (89 FR 77089, September 14, 2024).

We have reviewed ONR's application for a renewal IHA for ongoing ARA from September 2025 to September 2026 and the 2024 IHA monitoring report. Based on that review, we have determined that the planned action is nearly identical to that considered in the previous IHA, the only change being a reduction in planned activities. In addition, no significant new circumstances or information relevant to environmental concerns have been identified. Thus, we have determined that the preparation of a new or supplemental NEPA document is not necessary.

Endangered Species Act

Section 7(a)(2) of the Endangered Species Act of 1973 (ESA; 16 U.S.C. 1531 et seq.) requires that each Federal agency ensure that any action it authorizes, funds, or carries out is not likely to jeopardize the continued existence of any endangered or threatened species or result in the destruction or adverse modification of designated critical habitat. To ensure ESA compliance for the issuance of IHAs, NMFS Office of Protected Resources (OPR) consults internally whenever we propose to authorize take for endangered or threatened species, in this case with the NMFS Alaska Regional Office (AKR).

There is one marine mammal species (Arctic stock of ringed seal) with confirmed occurrence in the study area that is listed as threatened under the ESA. The NMFS AKR issued a Biological Opinion on September 13, 2022, under section 7 of the ESA, on the issuance of an IHA to ONR under section 101(a)(5)(D) of the MMPA by the NMFS OPR. The Biological Opinion concluded that the action is not likely to jeopardize the continued existence of Arctic ringed seals, and is not likely to destroy or adversely modify Arctic ringed seal critical habitat.

Renewal

NMFS has issued a renewal IHA to ONR for the take of marine mammals incidental to conducting an eighth year of ARA in the Beaufort and Chukchi Seas from September 14, 2025 to September 13, 2026.

Dated: September 3, 2025.
Kimberly Damon-Randall,
Director, Office of Protected Resources, National Marine Fisheries Service.

[FR Doc. 2025-17117 Filed 9-5-25; 8:45 am]

BILLING CODE 3510-22-P